INTERNATIONAL TRADE COMMISSION

[Investigation No. 731-TA-921 (Review)]

Folding Gift Boxes From China

Determination

On the basis of the record ¹ developed in the subject five-year review, the United States International Trade Commission (Commission) determines, pursuant to section 751(c) of the Tariff Act of 1930 (19 U.S.C. 1675(c)) (the Act), that revocation of the antidumping duty order on folding gift boxes from China would be likely to lead to continuation or recurrence of material injury to an industry in the United States within a reasonably foreseeable time.

¹ The record is defined in § 207.2(f) of the Commission's Rules of Practice and Procedure (19 CFR 207.2(f)).

Background

The Commission instituted this review on December 1, 2006 (71 FR 69586) and determined on March 6, 2007 that it would conduct an expedited review (72 FR 13512, March 22, 2007).

The Commission transmitted its determination in this review to the Secretary of Commerce on April 30, 2007. The views of the Commission are contained in USITC Publication 3917 (April 2007), entitled Folding Gift Boxes From China: Investigation No. 731-TA-921 (Review).

By order of the Commission.
Issued: May 1, 2007.
Marilyn R. Abbott,
Secretary to the Commission.

[FR Doc. E7-8623 Filed 5-4-07; 8:45 am]

BILLING CODE 7020-02-P